DEPARTMENT OF DEFENSE

Department of the Army; Corps of Engineers

Notice of Intent To Prepare a Draft Environmental Impact Statement for the City of Raleigh, Little River Reservoir Project in Wake County, NC

AGENCY: Department of the Army, U.S. Army Corps of Engineers, DoD.

ACTION: Notice of intent.

SUMMARY: The U.S. Army Corps of Engineers (COE), Wilmington District, Wilmington Regulatory Division has received a request for Department of the Army authorization, pursuant to Section 404 of the Clean Water Act, from the City of Raleigh to construct a drinking water reservoir on Little River to satisfy the future demands for the service area which includes Raleigh, Garner, Knightdale, Rolesville, Wake Forest, Wendell, and Zebulon, NC.

The proposed project would require the construction of a dam north of U.S. Highway 64 on Little River, a tributary in the Neuse River Basin. In addition, infrastructure improvements including a water treatment plant, water lines, and raising and/or closing existing roadways are expected.

DATES: A public scoping meeting for the Draft Environmental Impact Statement (DEIS) will be held at the East Wake High School at 5101 Rolesville Road, Wendell, NC 27591 on October 14, 2008 at 6:30 pm.

ADDRESSES: Copies of comments and questions regarding scoping of the Draft EIS may be addressed to: U.S. Army Corps of Engineers, Wilmington District, Regulatory Division—Raleigh Field Office, 3331 Heritage Trade Drive, Suite 105, Wake Forest, NC 27587, ATTN: File Number SAW-2004-9984752.

FOR FURTHER INFORMATION CONTACT: Questions about the proposed action and DEIS can be directed to Mr. Monte Matthews, Regulatory Division, telephone: (919) 554-4884, Extension 30.

SUPPLEMENTARY INFORMATION: The proposed Little River Reservoir site is located north of U.S. Highway 64, near Zebulon, Wake County, NC. The proposed reservoir would be comprised of approximately 1,100 acres of surface water at a normal pool elevation of 260 feet mean sea level. This would supply the service area with 17 million gallons per day (mgd) of drinking water. Impounded water would extend from the proposed dam site north to an area just south of State Route #2224, Mitchell Mill Road. The proposed project site includes undeveloped forested lands, existing farm fields, and beaver impacted streams and wetlands. This portion of Little River is classified as WS-II, High Quality Waters, Nutrient Sensitive Waters by the North Carolina Department of Environment and Natural Resources.

The City of Raleigh has provided the following information about the purpose of the proposed project:

The purpose of the proposed project is to develop a safe and dependable water supply for the project service area that, together with existing supplies, will satisfy estimated water demands for a planning period of approximately 30 years, and that will reinforce water system's reliability during periods of drought and other water emergencies. Furthermore, an adequate water supply is necessary to support continued growth of the service area. The service area for the proposed project includes the City of Raleigh and the Towns of Garner, Knightdale, Rolesville, Wake Forest, Wendell, and Zebulon, NC. The water and wastewater utilities for these six towns have been merged with the utilities for the City of Raleigh. The City of Raleigh also provides water to other communities in Wake County (Holly Springs and Fuquay-Varina) under existing sales contracts. The population projections for the service area are expected to increase from 489,000 people in 2010 to 896,200 people in 2040.

To continue, the water supply sources that currently provide drinking water for the project service area, including the communities served by sales contracts, encompass Falls Lake, Lake Benson/Lake Wheeler (scheduled to go on-line in 2010), and the Smith Creek Reservoir. The existing safe yield of the Smith Creek Reservoir is approximately 1 mgd, and the use of this source for water supply is currently planned to be discontinued. The existing 50-year safe yield of Falls Lake and Lake Benson/Lake Wheeler is approximately 78.4 mgd. The projected water demand for the project service area for the Year 2040 is approximately 93 mgd. This projection includes allowances for sustainable reductions in water demand due to water conservation and reuse, which are important components of the City of Raleigh's long-term water supply planning. On this basis, the proposed project, operated in conjunction with existing supplies as noted above, will meet the project service area demand through 2040. An additional water supply source will also increase the water system's reliability during short-term or catastrophic interruptions in the system due to line break or equipment breakdowns.

Proposed Impacts to Wetlands and Surface Waters: Surface waters and wetlands have been delineated for the proposed project site. Field reviews of the delineations with the U.S. Army Corps of Engineers (USACE), and North Carolina Division of Water Quality (DWQ) have been conducted with final USACE verification of the streams and wetlands delineation pending. The proposed reservoir will impact approximately 650 acres of wetlands and 55,500 linear feet of stream channel.

Scope of Investigations: Based upon the proposed impacts to wetlands and streams, the City of Raleigh has indicated to the U.S. Army Corps of Engineers that they are willing to pursue an Environmental Impact Statement (EIS) for the proposed Project. The scope of the EIS investigation will include the following: Alternatives analyses, Affected environment, Environmental consequences, Secondary and cumulative environmental impacts, and Mitigation.

Alternatives analyses: Council on Environmental Quality (CEQ) regulations (40 CFR 1502.14(a)) require an EIS to “rigorously explore and objectively evaluate all reasonable alternatives” for a proposed action. The regulations (40 CFR 1502.14(b)) further require that substantial treatment be made of each alternative considered in detail, including the proposed action. The Proposed Project and a reasonable number of alternatives, including the no action alternative, Use of Existing Reservoirs (Falls Lake, Lake Benson, Jordan Lake, and/or Kerr Lake), Alternative Reservoir Sites, Construction of Several Reservoirs, River or Stream Intake, Upland Constructed Flow Augmentation Reservoir, Purchasing Water from Other Systems, Development of Groundwater Supplies, Recycle and Reuse of Wastewater, Water Conservation, and any Combination of Alternatives will be evaluated and compared in the EIS. The factors used to compare the alternatives will be the same for each of the alternatives.

Affected environment: CEQ regulations (40 CFR 1502.15) require the EIS to describe the environment of the areas to be affected or created by the alternatives under consideration. The data and analysis shall be commensurate with the importance of the impact. Based upon preliminary evaluation of the proposed Project, it appears the primary areas of environmental concern will focus on the loss of wetlands and/or streams and other aquatic resource functions and values, mitigation of such losses, and the effect of the proposed reservoir on downstream water quality.

In preparation for the EIS, the following studies have been completed or are ongoing for the proposed Project:

• An in-house Environmental Assessment, Phase I Report completed by the applicant in January 1990. This report will be included as an appendix to the EIS.

• An in-stream flow study composed of an interagency technical group to develop a technically defensible study, including alternatives, for releases of minimum flow. This report detailing the methodologies and results of the study will be included as an appendix to the EIS.

• Jurisdictional wetland/stream/open waters delineations (Section 404 Jurisdictional Areas) (field reviews have been conducted with USACE and DWQ with final verification pending). A technical report detailing the methodologies and results of the jurisdictional areas delineation will be included as an appendix to the EIS.

• Archaeological investigations and field survey. A technical report detailing the methodologies and results of the archaeological investigation and survey will be included as an appendix to the EIS.

Environmental consequences: CEQ regulations (40 CFR 1502.16) state the EIS will include the environmental impacts of the alternatives including the proposed action, any adverse environmental effects which cannot be avoided should the proposal be implemented, the relationship between short-term uses of man's environment and the maintenance and enhancement of long-term productivity, and any irreversible or irretrievable commitments of resources which would be involved in the proposal should it be implemented. The EIS will identify and disclose the direct impacts of the proposed project and study a reasonable number of alternatives on the following: Topography, geology, soils, climate, biotic communities, wetlands, fish and wildlife resources, endangered and threatened species, hydrology, water resources and water quality, floodplains, hazardous materials, air quality, noise, aesthetics, recreational resources, historical and cultural resources, socioeconomics, land use, public health and safety, energy requirements and conservation, natural or non-renewable resources, drinking waters, and environmental justice.

Secondary and cumulative environmental impacts: Cumulative impacts result from the incremental impact of the proposed action when added to past, present, and reasonably foreseeable future actions, regardless of what agency or person undertakes the action. GIS data and mapping will be used to evaluate and quantify secondary and cumulative impacts of the proposed Project with particular emphasis given to wetlands and surface/groundwater resources.

Mitigation: CEQ regulations (40 CFR 1502.14, 1502.16, and 1508.20) require the EIS to include appropriate mitigation measures. The USACE has adopted, through the CEQ, a mitigation policy which embraces the concepts of “no net loss of wetlands” and project sequencing. The purpose of this policy is to restore and maintain the chemical, biological, and physical integrity of “Waters of the United States,” specifically wetlands. Mitigation of wetland impacts has been defined by the CEQ to include: avoidance of impacts (to wetlands), minimizing impacts, rectifying impacts, reducing impacts over time, and compensating for impacts (40 CFR 1508.20). Each of these aspects (avoidance, minimization, and compensatory mitigation) must be considered in sequential order. As part of the EIS, the applicant will develop a compensatory mitigation plan detailing the methodology and approach to compensate for unavoidable impacts to waters of the U.S. including streams and wetlands.

NEPA/SEPA Preparation and Permitting: Because the proposed Little River Reservoir project requires approvals from federal and state agencies under both the National Environmental Policy Act (NEPA) and the State Environmental Policy Act (SEPA), a joint Federal and State Environmental Impact Statement (EIS) will be prepared. The U.S. Army Corps of Engineers will serve as the lead agency for the process. The EIS will be the NEPA document for the Corps of Engineers (404 permit) and the SEPA document for the State of North Carolina (401 permit).

Based on the size, complexity, and potential impacts of the proposed project, the Applicant has been advised by the U.S. Army Corps of Engineers to identify and disclose the environmental impacts of the proposed project in an Environmental Impact Statement (EIS). Within the EIS, the Applicant will conduct a thorough environmental review, including an evaluation of a reasonable number of alternatives. After distribution and review of the Draft EIS and Final EIS, the Applicant understands that the U.S. Army Corps of Engineers will issue a Record of Decision (ROD) for the project. The ROD will document the completion of the EIS process and will serve as a basis for permitting decisions by Federal and State agencies.

Jefferson M. Ryscavage,
Colonel, U.S. Army, District Commander.

[FR Doc. E8-21426 Filed 9-12-08; 8:45 am]

BILLING CODE 3710-GN-P